DEPARTMENT OF HEALTH AND HUMAN SERVICES

Centers for Disease Control and Prevention

Clinical Laboratory Improvement Advisory Committee: Notice of Charter Renewal

This gives notice under the Federal Advisory Committee Act (Pub. L. 92-463) of October 6, 1972, that the Clinical Laboratory Improvement Advisory Committee, Centers for Disease Control and Prevention, of the Department of Health and Human Services, has been renewed for a 2-year period extending through February 19, 2008.

For further information, contact Robert Martin, M.D., Executive Secretary, Centers for Disease Control and Prevention, Department of Health and Human Services, 4470 Buford Highway, M/S G-25, Chamblee, Georgia 30341, telephone 770-488-8295 or fax 7770-488-8282.

The Director, Management and Analysis and Services Office, has been delegated the authority to sign Federal Register notices pertaining to announcements of meetings and other committee management activities for both the Centers for Disease Control and Prevention and the Agency for Toxic Substances and Disease Registry.

Dated: March 2, 2006.
Alvin Hall,
Director, Management Analysis and Services Office, Centers for Disease Control and Prevention.

[FR Doc. E6-3261 Filed 3-7-06; 8:45 am]

BILLING CODE 4163-18-P